DEPARTMENT OF DEFENSE

Department of the Army, Corps of Engineers

Intergovernmental Agreement Among the United States Department of the Army, the United States Department of the Interior, and the State of Florida Establishing Interim Restoration Goals for the Comprehensive Everglades Restoration Plan

AGENCY: Department of the Army, U.S. Army Corps of Engineers, DOD.

ACTION: Notice of availability.

SUMMARY: The Army Corps of Engineers, the Department of the Interior and the State of Florida are proposing to establish the interim goals for the Comprehensive Everglades Restoration Plan through the Interim Goals Agreement as required by Section 385.38(d) of the Programmatic Regulations for the Comprehensive Everglades Restoration Plan. Interim goals are a mean by which restoration success of the Comprehensive Everglades Restoration Plan may be evaluated at specific points by agency managers, the State of Florida, and Congress throughout the overall planning and implementation process. The public is invited to review and comment on the final draft of this Agreement.

DATES: We will accept comments until December 4, 2006.

ADDRESSES: If you wish to comment on the Interim Goals Agreement, you may submit written comments to U.S. Army Corps of Engineers, Jacksonville District, Restoration Program Office, ATTN: Beth Lewis, 1400 Centrepark Boulevard, Suite 750, West Palm Beach, FL 33401 or by electronic mail (e-mail) to: igcomments@evergladesplan.org. See SUPPLEMENTARY INFORMATION for file formats and other information about electronic filing.

FOR FURTHER INFORMATION CONTACT: Beth Lewis, TEL: (561) 472-8884, FAX: (561) 683-2418.

SUPPLEMENTARY INFORMATION: Section 385.38(d) of the Programmatic Regulations for the Comprehensive Everglades Restoration Plan sets forth the process for establishing the interim goals for the Comprehensive Everglades Restoration Plan. This section provides that the proposed Interim Goals Agreements be developed by the Secretary of the Army, the Secretary of the Interior, and the Governor of the State of Florida in consultation with the Miccosukee Tribe of Indians of Florida, the Seminole Tribe of Florida, the Environmental Protection Agency, the Department of Commerce, other Federal, State, and local agencies, and the South Florida Ecosystem Restoration Task Force. In considering the interim goals to be included in the Interim Goals Agreement, the Secretary of the Army, Secretary of the Interior and the Governor of the State of Florida are required to consider the technical recommendations of RECOVER and any modifications to those recommendations by the Corps of Engineers, the Department of the Interior or the South Florida Water Management District. The programmatic regulations require that the Secretary of the Army afford the public an opportunity to comment on the proposed Interim Goals Agreement prior to its approval. An electronic copy of the document is available at: http://www.evergladesplan.org/pm/progr_regs_igit_agreements.cfm.

Electronic Access and Filing Addresses

You may submit comments and data by sending e-mail to: igcomments@evergladesplan.org.

If submitting comments by electronic format, please submit them in ASCII file format or Word file format and avoid the use of special characters and any form of encryption. Please include your name and return e-mail address in your e-mail message. Please note that your e-mail address will not be retained at the termination of the public comment period.

Brenda S. Bowen,
Army Federal Register Liaison Officer.

[FR Doc. 06-9047 Filed 11-2-06; 8:45 am]

BILLING CODE 3710-AJ-M